COUNCIL OF THE INSPECTORS GENERAL ON INTEGRITY AND EFFICIENCY

Privacy Act of 1974; System of Records

AGENCY: Council of the Inspectors General on Integrity and Efficiency.

ACTION: Notice of a new system of records.

SUMMARY: The Council of the Inspectors General on Integrity and Efficiency (CIGIE) proposes to establish a system of records that is subject to the Privacy Act of 1974. Specifically, the Correspondence Tracking system of records will enable CIGIE to more efficiently track correspondence received from and sent to entities and individuals, both within and external to the Federal government. CIGIE also proposes to establish routine uses for the proposed system of records. In this notice, CIGIE provides the required information on the system of records and routine uses for such system.

DATES: This action will be effective without further notice on December 6, 2017 unless comments are received that would result in a contrary determination.

ADDRESSES: You may submit comments by any of the following methods:

• Federal eRulemaking Portal: http://www.regulations.gov. Follow the instructions for submitting comments.

• Email: comments@CIGIE.gov.

• Fax: (202) 254-0162.

• Mail: Atticus J. Reaser, General Counsel, Council of the Inspectors General on Integrity and Efficiency, 1717 H Street NW., Suite 825, Washington, DC 20006.

• Hand Delivery/Courier: Atticus J. Reaser, General Counsel, Council of the Inspectors General on Integrity and Efficiency, 1717 H Street NW., Suite 825, Washington, DC 20006.

FOR FURTHER INFORMATION CONTACT: Atticus J. Reaser, General Counsel, CIGIE, (202) 292-2600.

SUPPLEMENTARY INFORMATION: In 2008, Congress established CIGIE as an independent entity within the executive branch in order to address integrity, economy, and effectiveness issues that transcend individual Government agencies; and increase the professionalism and effectiveness of personnel by developing policies, standards, and approaches to aid in the establishment of a well-trained and highly skilled workforce in the offices of the Inspector General. CIGIE's membership is comprised of all Inspectors General whose offices are established under the Inspector General Act of 1978, as amended, 5 U.S.C. app, as well as the Controller of the Office of Federal Financial Management, a designated official of the Federal Bureau of Investigation, the Director of the Office of Government Ethics, the Special Counsel of the Office of Special Counsel, the Deputy Director of the Office of Personnel Management, the Deputy Director for Management of the Office of Management and Budget (OMB), and the Inspectors General of the Office of the Director of National Intelligence, Central Intelligence Agency, Library of Congress, Capitol Police, Government Publishing Office, Government Accountability Office, and the Architect of the Capitol. The Deputy Director for Management of OMB serves as the Executive Chairperson of CIGIE.

The new system of records described in this notice, CIGIE—1—Correspondence Tracking, will enable CIGIE to more efficiently track correspondence received from and sent to entities and individuals, both within and external to the Federal government. In accordance with 5 U.S.C. 552a(r), CIGIE has provided a report of this new system of records to OMB and to Congress. The new system of records reads as follows:

SYSTEM NAME AND NUMBER

Correspondence Tracking—CIGIE-1.

SECURITY CLASSIFICATION:

None.

SYSTEM LOCATIONS:

The principal location of paper records contained within the system is the headquarters of the Council of the Inspectors General on Integrity and Efficiency (CIGIE), 1717 H Street NW., Suite 825, Washington, DC 20006. Paper records within the system may also be located at CIGIE's Inspector General Criminal Investigator Academy, Federal Law Enforcement Training Center, 384 Marana Circle, Glynco, Georgia 31524. Records maintained in electronic form are principally located in contractor-hosted data centers in the United States. Contact the System Manager identified below for additional information.

SYSTEM MANAGER(S):

Executive Director, Council of the Inspectors General on Integrity and Efficiency, 1717 H Street NW., Suite 825, Washington, DC 20006.

AUTHORITY FOR MAINTENANCE OF THE SYSTEM:

Section 11 of the Inspector General Act of 1978, as amended, 5 U.S.C. app (IG Act); 5 U.S.C. 301; 44 U.S.C. 3101.

PURPOSE(S) OF THE SYSTEM:

The information is used to track and record the incoming correspondence to determine whether the matter is appropriate for CIGIE to handle and prepare a response, whether CIGIE should refer it to another Federal agency for handling, and whether CIGIE should decline to take any action.

CATEGORIES OF INDIVIDUALS COVERED BY THE SYSTEM:

Individuals who submit correspondence to CIGIE, who have correspondence submitted on their behalf to CIGIE, who are the subject of correspondence to CIGIE, or who request to receive correspondence from CIGIE, as well as CIGIE employees responsible for processing, reviewing, and/or responding to such correspondence.

CATEGORIES OF RECORDS IN THE SYSTEM:

The system maintains information about correspondence that CIGIE receives from Members and Committees of Congress; Federal, state, and local agencies; private entities; and private citizens, regarding significant issues that do or may fall within CIGIE's jurisdiction under the IG Act. The system also contains information about responses to such correspondence, as well as referrals of the complaints/correspondence to the various Offices of Inspector General and other Federal agencies for response. The system may contain personal information relating to the sender and individuals (both public officials and private citizens) who are named in or related to the correspondence, such as names, addresses, phone numbers, and email addresses. This system does not contain all correspondence received or sent by CIGIE. For example, most routine email correspondence is not included in this system and some correspondence is maintained in other CIGIE systems of record.

RECORD SOURCE CATEGORIES:

The information is provided by Members and Committees of Congress; Federal, State, and local agencies; private entities; and private citizens.

ROUTINE USES OF RECORDS MAINTAINED IN THE SYSTEM, INCLUDING CATEGORIES OF USERS AND THE PURPOSES OF SUCH USES:

In addition to those disclosures generally permitted under the Privacy Act (5 U.S.C. 552a(b)), the records or information contained in this system of records may specifically be disclosed outside of CIGIE as a routine use pursuant to the Privacy Act (5 U.S.C. 552a(b)(3)) as follows:

A. To a Member of Congress in response to an inquiry from that Member made at the request of the individual. In such cases, however, the Member's right to a record is no greater than that of the individual.

B. If the disclosure of certain records to the Department of Justice (DOJ) is relevant and necessary to litigation and is compatible with the purpose for which the records were collected, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation and is compatible with the purpose for which the records were collected, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity.

E. To officials and employees of any Federal agency to the extent the record contains information that is relevant to that agency's decision concerning the hiring, appointment, or retention of an employee; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE and who have a need to access the information in the performance of their duties or activities for CIGIE.

H. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

I. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

J. To Federal agencies and independent certified public accounting firms that have a need for the information in order to audit the financial statements of CIGIE.

K. To an organization or an individual in the public or private sector if there is reason to believe the recipient is or could become the target of a particular criminal activity or conspiracy, or to the extent the information is relevant to the protection or life or property.

L. To officials, members, and employees of CIGIE who have need of the information in the performance of their duties.

M. To the Office of Personnel Management (OPM) in accordance with OPM's responsibility for evaluation and oversight of Federal personnel management.

N. To appropriate agencies, entities, and persons, to the extent necessary to respond to or refer correspondence.

POLICIES AND PRACTICES FOR STORAGE OF RECORDS:

Information in this system is maintained in paper and/or electronic form.

POLICIES AND PRACTICES FOR RETRIEVAL OF RECORDS:

These records are retrieved by the name or other programmatic identifier assigned to the individual on whom they are maintained.

POLICIES AND PRACTICES FOR RETENTION AND DISPOSAL OF RECORDS:

The information is retained and disposed of in accordance with the General Records Schedule or the CIGIE records schedule applicable to the record and/or as otherwise required by the Federal Records Act and implementing regulations. Destruction is by shredding or electronic deletion.

ADMINISTRATIVE, TECHNICAL, AND PHYSICAL SAFEGUARDS:

Paper records are located in locked file storage areas or in specified areas to which only authorized personnel have access. Electronic records are protected from unauthorized access through password identification procedures, limited access, firewalls, and other system-based protection methods.

RECORD ACCESS PROCEDURES:

Individuals seeking notification and access to any record contained in this system of records, or seeking to contest its content, may inquire in writing to the System Manager listed above. CIGIE has published a rule, entitled “Privacy Act Regulations,” to establish its procedures relating to access, maintenance, disclosure, and amendment of records which are in a CIGIE system of records under the Privacy Act, promulgated at 5 CFR part 9801.

CONTESTING RECORDS PROCEDURES:

See “Record Access Procedures” above.

NOTIFICATION PROCEDURES:

See “Record Access Procedures” above.

EXEMPTIONS PROMULGATED FOR THE SYSTEM:

None.

Dated: October 23, 2017.
Michael E. Horowitz,
Chairperson of the Council of the Inspectors General on Integrity and Efficiency.

[FR Doc. 2017-24043 Filed 11-3-17; 8:45 am]

BILLING CODE 6820-C9-P